DEPARTMENT OF COMMERCE

International Trade Administration

[A-570-601]

Tapered Roller Bearings and Parts Thereof, Finished and Unfinished, From the People's Republic of China: Initiation of Antidumping Duty New Shipper Review

AGENCY: Enforcement and Compliance, International Trade Administration, Department of Commerce.

SUMMARY: The Department of Commerce (Department) received a request from Zhejiang Jingli Bearing Technology Co. Ltd. (Zhejiang Jingli) for a new shipper review (NSR) of the antidumping duty order on tapered roller bearings and parts thereof, finished and unfinished (TRBs), from the People's Republic of China (PRC). We have determined that this request meets the statutory and regulatory requirements for initiation. The period of review (POR) for this NSR is June 1, 2015, through May 31, 2016.

DATES: Effective August 3, 2016.

FOR FURTHER INFORMATION CONTACT: Manuel Rey or Blaine Wiltse, Enforcement and Compliance, International Trade Administration, U.S. Department of Commerce, 14th Street and Constitution Avenue NW., Washington, DC 20230; telephone: (202) 482-5518 or (202) 482-6345, respectively.

SUPPLEMENTARY INFORMATION:

Background

On June 15, 1987, the Department published in the Federal Register the antidumping duty order on TRBs from the PRC.¹ In June 2016, the Department received a properly-filed request for an NSR from Zhejiang Jingli ² during the anniversary month of the antidumping duty order, pursuant to section 751(a)(2)(B)(i) of the Tariff Act of 1930, as amended (the Act).

¹ See Antidumping Duty Order; Tapered Roller Bearings and Parts Thereof, Finished or Unfinished, From the People's Republic of China, 52 FR 22667 (June 15, 1987).

² See Zhejiang Jingli's June 28, 2016, submission (Zhejiang Jingli NSR Request).

In its request, Zhejiang Jingli certified that it is a producer and exporter of TRBs from the PRC. Pursuant to section 751(a)(2)(B)(i)(I) of the Act and 19 CFR 351.214(b)(2)(i), Zhejiang Jingli also certified that it did not export TRBs to the United States during the period of investigation (POI).³ In addition, pursuant to section 751(a)(2)(B)(i)(II) of the Act and 19 CFR 351.214(b)(2)(iii)(A), Zhejiang Jingli certified that, since the initiation of the investigation, it has never been affiliated with any PRC exporter or producer who exported TRBs to the United States during the POI, including those respondents not individually examined during the investigation.⁴ As required by 19 CFR 351.214(b)(2)(iii)(B), Zhejiang Jingli certified that its export activities were not controlled by the government of the PRC.⁵ Finally, because Zhejiang Jingli purchased in-scope parts from unaffiliated suppliers, it also provided these same certifications from its suppliers, as required by 19 CFR 351.214(b)(2)(ii)(B), (b)(2)(iii)(A), and (b)(2)(iii)(B).⁶

³ Id., at Exhibit 1.

⁴ Id.

⁵ Id.

⁶ See Zhejiang Jingli's July 25, 2016, submission at Attachment.

In addition to the certifications described above, pursuant to 19 CFR 351.214(b)(2)(iv), Zhejiang Jingli submitted documentation establishing the following: (1) The date on which it first sold TRBs for export to the United States and the date on which the TRBs were first entered; (2) the volume of its first shipment; and (3) the date of its first sale to an unaffiliated customer in the United States.⁷

⁷ Id., at Exhibit 2.

The Department conducted a U.S. Customs and Border Protection (CBP) database query to confirm that Zhejiang Jingli's shipment of subject merchandise entered the United States for consumption and that liquidation of this entry had been properly suspended for antidumping duties. The Department also examined whether the CBP data confirmed that this entry was made during the POR. The information the Department examined was consistent with that provided by Zhejiang Jingli.

Period of Review

In accordance with 19 CFR 351.214(g)(1)(i)(A), the POR for an NSR initiated in the month immediately following the anniversary month will be the twelve-month period immediately preceding the anniversary month. Therefore, the POR is June 1, 2015, through May 31, 2016. Based on the information provided by Zhejiang Jingli, the subject merchandise upon which Zhejiang Jingli's NSR request is based entered the United States during this twelve-month POR.

Initiation of New Shipper Review

Pursuant to section 751(a)(2)(B) of the Act, 19 CFR 351.214(b), 19 CFR 351.214(d)(1), and after reviewing the information on the record, the Department finds that the request from Zhejiang Jingli meets the threshold requirements for the initiation of an NSR for shipments of TRBs from the PRC by Zhejiang Jingli.⁸ If the information supplied by Zhejiang Jingli cannot be verified, or is otherwise found to be incorrect or insufficient during the course of this proceeding, the Department may rescind the NSR or apply facts available pursuant to section 776 of the Act, depending on the facts on the record.

⁸ See Memorandum to the File from Manuel Rey, International Trade Compliance Analyst, Office II, AD/CVD Operations, entitled “Tapered Roller Bearings and Parts Thereof, Finished and Unfinished, from the People's Republic of China: Initiation of New Shipper Review of Zhejiang Jingli,” dated concurrently with this notice.

On February 24, 2016, the President signed into law the “Trade Facilitation and Trade Enforcement Act of 2015,” H.R. 644, which made several amendments to section 751(a)(2)(B) of the Act. We will conduct this NSR in accordance with section 751(a)(2)(B) of the Act, as amended by the Trade Facilitation and Trade Enforcement Act of 2015.⁹

⁹ Notably, the Trade Facilitation and Trade Enforcement Act of 2015 removed from section 751(a)(2)(B) of the Act the provision directing the Department to instruct CBP to allow an importer the option of posting a bond or security in lieu of a cash deposit during the pendency of an NSR.

The Department intends to issue the preliminary results of this NSR no later than 180 days from the date of initiation, and the final results within 90 days after the date on which the preliminary results are issued, pursuant to section 751(a)(2)(B)(iii) of the Act.

It is the Department's usual practice, in cases involving non-market economy countries, to require that a company seeking to establish eligibility for an antidumping duty rate separate from the country-wide rate provide evidence of de jure and de facto absence of government control over the company's export activities. Accordingly, we will issue a questionnaire to Zhejiang Jingli which will include a section requesting information concerning its eligibility for a separate rate. The review will proceed if the response provides sufficient indication that Zhejiang Jingli is not subject to either de jure or de facto government control with respect to its exports of subject merchandise.

To assist in its analysis of the bona fides of Zhejiang Jingli's sale pursuant to section 751(a)(2)(B)(iv) of the Act, upon initiation of this NSR, the Department will require Zhejiang Jingli to submit on an ongoing basis complete transaction information concerning any sales of subject merchandise to the United States that were made subsequent to the POR.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: July 28, 2016.
Christian Marsh,
Deputy Assistant Secretary for Antidumping and Countervailing Duty Operations.

[FR Doc. 2016-18402 Filed 8-2-16; 8:45 am]

BILLING CODE 3510-DS-P